DEPARTMENT OF JUSTICE

Drug Enforcement Administration

Manufacturer of Controlled Substances; Notice of Application

Pursuant to § 1301.33(a) of Title 21 of the Code of Federal Regulations (CFR), this is notice that on September 4, 2001, Cedarburg Pharmaceuticals, LLC, 870 Badger Circle, Grafton, Wisconsin 53024, made application by renewal to the Drug Enforcement Administration (DEA) for registration as a bulk manufacturer of the basic classes of controlled substances listed below:

Drug | Schedule
Tetrahydrocannabinols (7370) | I
Oxycodone | II
Hydromorphone (9150) | II
Hydrocodone (9193) | II

The firm will manufacture these controlled substances for another firm.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than February 19, 2002.

Dated: November 26, 2001.
Laura M. Nagel,
Deputy Assistant Administrator, Office of Diversion Control Drug Enforcement Administration.

[FR Doc. 01-31279 Filed 12-19-01; 8:45 am]

BILLING CODE 4410-09-M